DEPARTMENT OF THE INTERIOR

Fish and Wildlife Service

[FWS-HQ-IA-2013-N277; FXIA16710900000P5-123-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibits activities with listed species unless Federal authorization is acquired that allows such activities.

DATES: We must receive comments or requests for documents on or before January 8, 2014. We must receive requests for marine mammal permit public hearings, in writing, at the address shown in the ADDRESSES section by January 8, 2014.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: Pamela Tupdale, Winder, GA; PRT-19139B

The applicant requests a captive-bred wildlife registration under 50 CFR 17.21(g) for golden parakeet (Guarouba guarouba) to enhance the species' propagation or survival. This notification covers activities to be conducted by the applicant over a 5-year period.

Applicant: Aysel Akturk, Wayne, NJ; PRT-19014B

The applicant requests a captive-bred wildlife registration under 50 CFR 17.21(g) for golden parakeet (Guarouba guarouba) to enhance the species' propagation or survival. This notification covers activities to be conducted by the applicant over a 5-year period.

Applicant: Larry Gaugler, Elmhurst, NY; PRT-168307

The applicant requests renewal of their captive-bred wildlife registration under 50 CFR 17.21(g) for radiated tortoise (Astrochelys radiata) to enhance the species' propagation or survival. This notification covers activities to be conducted by the applicant over a 5-year period.

Applicant: Jacksonville Zoological Society, Jacksonville, FL; PRT-676034

The applicant requests renewal and amendment of their captive-bred wildlife registration under 50 CFR 17.21(g) for the following families and species, to enhance the species' propagation or survival. This notification covers activities to be conducted by the applicant over a 5-year period.

Family:

Cercopithecidae

Hylobatidae

Lemuridae

Macropodidae

Sturnidae (does not include Aplonis pelzelni)

Boidae (does not include Mona or Puerto Rico boas)

Species:

Koala (Phascolarctos cinereus)

Applicant: Florida Tortoise and Iguana Breeders, S.W. Ranches, FL; PRT-19831B

The applicant requests a captive-bred wildlife registration under 50 CFR 17.21(g) for the Galapagos tortoise (Chelonoidis nigra), radiated tortoise (Astrochelys radiata), Cuban ground iguana (Cyclura nubila nubila), Grand Cayman blue iguana (Cyclura lewisi), and Cayman Brac ground iguana (Cyclura nubila caymanensis) to enhance the species' propagation or survival. This notification covers activities to be conducted by the applicant over a 5-year period.

Applicant: William Zovickian, Dacula, GA; PRT-721023

The applicant requests renewal of their captive-bred wildlife registration under 50 CFR 17.21(g) for the family Testudinidae, to enhance the species' propagation or survival. This notification covers activities to be conducted by the applicant over a 5-year period.

Applicant: Charles Franz, Copperas Cove, TX; PRT-20028B

The applicant requests a captive-bred wildlife registration under 50 CFR 17.21(g) for barasingha (Rucervus duvaucelii), Eld's deer (Rucervus eldii), scimitar-horned oryx (Oryx dammah), Arabian oryx (Oryx leucoryx), addax (Addax nasomaculatus), dama gazelle (Nanger dama), and red lechwe (Kobus leche) to enhance the species' propagation or survival. This notification covers activities to be conducted by the applicant over a 5-year period.

Applicant: Charles Franz, Copperas Cove, TX; PRT-20032B

The applicant requests a permit authorizing interstate and foreign commerce, export, and cull of excess scimitar-horned oryx (Oryx dammah) from the captive herd maintained at their facility, for the purpose of enhancement of the survival of the species. This notification covers activities over a 5-year period.

Applicant: Heaven on Earth Avian Acre, Loxahatchee Groves, FL; PRT-94164A

The applicant requests amendment of their captive-bred wildlife registration under 50 CFR 17.21(g) to include blue-throated macaw (Ara glaucogularis) to enhance the species' propagation or survival. This notification covers activities to be conducted by the applicant over a 5-year period.

Applicant: Detroit Zoological Society, Royal Oak, MI; PRT-672017

The applicant requests renewal and amendment of their captive-bred wildlife registration under 50 CFR 17.21(g) for the following families, to enhance the species' propagation or survival. This notification covers activities to be conducted by the applicant over a 5-year period.

Family:

Bovidae

Canidae

Cercopithecidae

Cervidae

Equidae

Felidae (does not include jaguar, margay or ocelot)

Hominidae

Hylobatidae

Lemuridae

Macropodidae

Rhinocerotidae

Tapiridae

Ursidae

Anatidae (does not include Hawaiian goose or Hawaiian duck)

Cathartidae

Gruidae

Sturnidae (does not include Aplonis pelzelni)

Boidae (does not include Mona boa or Puerto Rico boa)

Crocodylidae (does not include American crocodile)

Pelomedusidae

Testudinidae

Applicant: Milwaukee County Zoo, Milwaukee, WI; PRT-683685

The applicant requests renewal of their captive-bred wildlife registration under 50 CFR 17.21(g) for the following families and species, to enhance the species' propagation or survival. This notification covers activities to be conducted by the applicant over a 5-year period.

Family:

Cebidae

Cercopithecidae

Felidae (does not include jaguar, margay or ocelot)

Hominidae

Hylobatidae

Lemuridae

Macropodidae

Rhinocerotidae

Tapiridae

Fringillidae

Sturnidae (does not include Aplonis pelzelni Threskiornithidae, Iguanidae, and Pelomedusidae)

Species:

Koala (Phascolarctos cinereus)

Applicant: Chris Hedrick, Houston, TX; PRT-809377

The applicant requests renewal of their captive-bred wildlife registration under 50 CFR 17.21(g) for radiated tortoise (Astrochelys radiata) to enhance the species' propagation or survival. This notification covers activities to be conducted by the applicant over a 5-year period.

Applicant: Tuan Pham, Hicksville, NY; PRT-20213B

The applicant requests a captive-bred wildlife registration under 50 CFR 17.21(g) for radiated tortoise (Astrochelys radiata) and spotted pond turtle (Geoclemys hamiltonii) to enhance the species' propagation or survival. This notification covers activities to be conducted by the applicant over a 5-year period.

Applicant: Steven Cheng, San Jose, CA; PRT-20549B

The applicant requests a captive-bred wildlife registration under 50 CFR 17.21(g) for radiated tortoise (Astrochelys radiata) to enhance the species' propagation or survival. This notification covers activities to be conducted by the applicant over a 5-year period.

Applicant: Jonathan Rosenstrach, White Plains, NY; PRT-20889B

The applicant requests a captive-bred wildlife registration under 50 CFR 17.21(g) for radiated tortoise (Astrochelys radiata) to enhance the species' propagation or survival. This notification covers activities to be conducted by the applicant over a 5-year period.

Applicant: Wildwood Wildlife Park, Minocqua, WI; PRT-66306A

The applicant requests amendment of their captive-bred wildlife registration under 50 CFR 17.21(g) to include the following species, to enhance the species' propagation or survival. This notification covers activities to be conducted by the applicant over a 5-year period.

Species:

Black and white ruffed lemur (Varecia variegata)

Red ruffed lemur (Varecia rubra)

Mandrill (Mandrillus sphinx)

Japanese macaque (Macaca fuscata)

Lar gibbon (Hylobates lar)

Snow leopard (Uncia uncia)

Bontebok (Damaliscus pygargus pygargus)

Addax (Addax nasomaculatus)

Red lechwe (Kobus leche)

Scimitar-horned oryx (Oryx dammah)

Dama gazelle (Nanger dama)

Blyth's tragopan (Tragopan blythii)

Cabot's tragopan (Tragopan caboti)

Spotted pond turtle (Geoclemys hamiltonii)

Applicant: Sean Meyer, Palm Coast, FL; PRT-20053B

The applicant requests a captive-bred wildlife registration under 50 CFR 17.21(g) for radiated tortoise (Astrochelys radiata) to enhance the species' propagation or survival. This notification covers activities to be conducted by the applicant over a 5-year period.

Applicant: Gulf Breeze Zoo, Gulf Breeze, FL; PRT-690136

The applicant requests renewal and amendment of their captive-bred wildlife registration under 50 CFR 17.21(g) for the following families and species, to enhance the species' propagation or survival. This notification covers activities to be conducted by the applicant over a 5-year period.

Family:

Bovidae

Cebidae

Canidae

Cercopithecidae

Equidae

Felidae (does not include jaguar, margay or ocelot)

Hominidae

Hylobatidae

Lemuridae

Columbidae

Gruidae

Psittacidae (does not include thick-billed parrot).

Species:

Barasingha (Rucervus duvaucelii)

Galapagos tortoise (Chelonoidis nigra)

Radiated tortoise (Astrochelys radiate)

Applicant: Craig Stanford, South Pasadena, CA; PRT-170346

The applicant requests renewal of their captive-bred wildlife registration under 50 CFR 17.21(g) for the radiated tortoise (Astrochelys radiata), to enhance the species' propagation or survival. This notification covers activities to be conducted by the applicant over a 5-year period.

Applicant: Allen Rogers, Sargent, TX; PRT-21564B

The applicant requests a captive-bred wildlife registration under 50 CFR 17.21(g) for scimitar-horned oryx (Oryx dammah) to enhance the species' propagation or survival. This notification covers activities to be conducted by the applicant over a 5-year period.

Applicant: Allen Rogers, Sargent, TX; PRT-21559B

The applicant requests a permit authorizing interstate and foreign commerce, export, and cull of excess scimitar-horned oryx (Oryx dammah) from the captive herd maintained at their facility, for the purpose of enhancement of the survival of the species. This notification covers activities over a 5-year period.

Applicant: Los Angeles Zoo, Los Angeles, CA; PRT-687498

The applicant requests renewal of their captive-bred wildlife registration under 50 CFR 17.21(g) for the following families and species, to enhance the species' propagation or survival. This notification covers activities to be conducted by the applicant over a 5-year period.

Family:

Bovidae

Camelidae

Canidae

Cebidae

Cercopithecidae

Cervidae

Equidae

Felidae

Hominidae

Hylobatidae

Lemuridae

Macropodidae

Mustelidae

Rhinocerotidae

Tapiridae

Viverridae

Cathartidae

Boidae

Viperidae

Varanidae

Testudinidae

Crocodylidae

Species:

Koala (Phascolarctos cinereus)

Babirusa (Babyrousa babyrussa)

Brush-tailed bettong (Bettongia penicillata)

Cabot's tragopan (Tragopan caboti)

Blyth's tragopan (Tragopan blythii)

Harpy eagle (Harpia harpyja)

Bali mynah (Leucopsar rothschildi)

Applicant: The Living Desert, Palm Desert, CA; PRT-738164

The applicant requests renewal of their captive-bred wildlife registration under 50 CFR 17.21(g) for the following families and species, to enhance the species' propagation or survival. This notification covers activities to be conducted by the applicant over a 5-year period.

Family:

Canidae

Equidae

Felidae [includes cheetah (Acinonyx jubatus); but does not include the genus Panthera or margay (Leopardus wiedii), ocelot (L. pardalis) or the following subspecies of jaguarundi: Herpailurus yaguarondi cacomitli or H. y. tolteca]

Iguanidae

Testudinidae

Viperidae (including Crotalus unicolor but does not include Crotalus willardi)

Species:

Bactrian wapiti (Cervus elaphus bactrianus)

Amur leopard (Panthera pardus orientalis)

Applicant: Fort Wayne Zoological Society, Fort Wayne, IN; PRT-671564

The applicant requests renewal and amendment of their captive-bred wildlife registration under 50 CFR 17.21(g) for the following families and species, to enhance the species' propagation or survival. This notification covers activities to be conducted by the applicant over a 5-year period.

Family:

Cebidae

Cercopithecidae

Felidae (does not include jaguar, margay or ocelot)

Hominidae

Lemuridae

Macropodidae

Ciconiidae (does not include wood stork)

Psittacidae (does not include thick-billed parrot)

Spheniscidae

Sturnidae (does not include Aplonis pelzelni)

Testudinidae

Varanidae

Species:

African Wild Dog (Lycaon pictus)

Cabot's tragopan (Tragopan caboti)

Applicant: Atlanta Fulton County Zoo, Atlanta, GA; PRT-740398

The applicant requests amendment of their captive-bred wildlife registration under 50 CFR 17.21(g) to include the following species, to enhance the species' propagation or survival. This notification covers activities to be conducted by the applicant over a 5-year period.

Species:

Bali starling (Leucopsar rothschildi)

Aruba Island rattlesnake (Crotalus durissus unicolor)

Applicant: Wildlife Conservation Society, Bronx, NY; PRT-18975B

The applicant requests a permit to re-export biological samples from previously imported samples of five post mortem wild Amur tigers (Panthera tigris altaica) to the United Kingdom for the purpose of enhancement of the survival of the species.

Applicant: Geoffrey Ridder, Utopia, TX; PRT-00030B

The applicant requests a permit to export the sport-hunted trophy/trophies of scimitar-horned oryx (Oryx dammah) culled from a captive herd maintained in the state of Texas, for the purpose of enhancement of the survival of the species.

B. Endangered Marine Mammals and Marine Mammals

Applicant: BBC Television, Bristol, England; PRT-14359B

On November 22, 2013, we published a Federal Register notice inviting the public to comment on an application for a permit to photograph polar bears (Ursus maritimus) (78 FR 70067). We cited the incorrect PRT number (PRT-05202B); the correct PRT number is above.

Concurrent with publishing this notice in the Federal Register, we are forwarding copies of the above applications to the Marine Mammal Commission and the Committee of Scientific Advisors for their review.

Brenda Tapia,
Program Analyst/Data Administrator, Branch of Permits, Division of Management Authority.

[FR Doc. 2013-29224 Filed 12-6-13; 8:45 am]

BILLING CODE 4310-55-P